DEPARTMENT OF ENERGY

Federal Energy Regulatory Commission

[Docket No. CP04-373-000]

Texas Gas Transmission, LLC; Notice of Application

July 16, 2004.

Take notice that on July 7, 2004, Texas Gas Transmission, LLC (Texas Gas), 3800 Frederica Street, Owensboro, Kentucky 42301, filed in Docket No. CP04-373-000 pursuant to section 7 of the Natural Gas Act, and subpart A of the Federal Energy Regulatory Commission's (Commission) regulations, an application seeking a certificate of public convenience and necessity for their proposed Texas Gas Storage Expansion Project. Specifically, the Texas Gas Storage Expansion Project involves the installation of two new turbine compressors in order to increase the deliverability of the Midland Gas Storage Field located in Muhlenberg County, Kentucky, which will allow Texas Gas to utilize additional working gas on a firm seasonal basis, all as more fully described in the request which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions regarding this application should be directed to Kathy D. Fort, Manager, Certificates and Tariffs; Texas Gas Transmission, LLC; P.O. Box 20008, Owensboro, Kentucky 42304 or call (270) 688-6825.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken; but the filing of a comment alone will not serve to make the filer a party to the proceeding. The Commission's rules require that persons filing comments in opposition to the project provide copies of their protests only to the party or parties directly involved in the protest.

The Commission strongly encourages electronic filings of comments, protests and interventions via the Internet in lieu of paper. See 18 CFR 385.2001(a)(1)(iii) and the instructions on the Commission's Web site under the “e-Filing” link.

Comment Date: August 6, 2004.

Magalie R. Salas,
Secretary.

[FR Doc. E4-1641 Filed 7-21-04; 8:45 am]

BILLING CODE 6717-01-P